DEPARTMENT OF TRANSPORTATION

Federal Aviation Administration

Noise Exposure Map Determination, Centennial Airport, Englewood, CO

AGENCY: Federal Aviation Administration (FAA), DOT.

ACTION: Notice.

SUMMARY: The FAA announces its determination that the noise exposure maps submitted by the Arapahoe County Public Airport Authority for Centennial Airport are in compliance with applicable requirements.

DATES: The date of the FAA's determination on the noise exposure maps is August 1, 2017.

FOR FURTHER INFORMATION CONTACT: Linda Bruce, Federal Aviation Administration, Denver Airports District Office, 26805 E. 68th Ave., Suite 224, Denver, CO 80249, (303) 342-1264, linda.bruce@faa.gov.

SUPPLEMENTARY INFORMATION: This notice announces that the FAA finds that the noise exposure maps submitted for Centennial Airport under the provisions of 49 U.S.C. 47501 et seq. (Aviation Safety and Noise Abatement Act) and 14 CFR part 150 are in compliance with applicable requirements of 14 CFR part 150, effective January 13, 2004. Under 49 U.S.C. 47503 of the Aviation Safety and Noise Abatement Act (hereinafter referred to as “the Act”), an airport operator may submit to the FAA noise exposure maps that meet applicable regulations and depict non-compatible land uses as of the date of submission of such maps, a description of projected aircraft operations during a forecast period that is at least five (5) years in the future, and the ways in which such operations will affect such maps. The Act requires such maps to be developed in consultation with interested and affected parties in the local community, government agencies, and persons using the airport. An airport operator who has submitted noise exposure maps that are found by FAA to be in compliance with the requirements of 14 CFR part 150, promulgated pursuant to the Act, may submit a noise compatibility program for FAA approval that sets forth the measures the operator has taken or proposes to take to reduce existing non-compatible uses and prevent the introduction of additional non-compatible uses.

The FAA has completed its review of the noise exposure maps and accompanying report submitted by the Arapahoe County Public Airport Authority. The documentation that constitutes the “Noise Exposure Maps” (NEM), as defined in Section 150.7 of 14 CFR part 150, and includes an Existing Conditions (2016) Noise Exposure Map, Figure 13, and a Forecast Conditions (2021) Noise Exposure Map, Figure 14, located in Chapter 4 of the official NEM Report submittal.

The NEM contain current and forecast information, including the depiction of the airport and its boundaries, the runway configurations, and land uses such as residential, open space, commercial/office, community facilities, libraries, churches, open space, infrastructure, vacant and warehouse and those areas within the Day Night Average Sound Level (DNL) 65, 70 and 75 noise contours. This information is contained in the NEM Report. Land uses in close proximity to the airport are shown in Chapter 2, Figure 1. Estimates of private residential population within the 2016 Base Year and the 2021 Future Year noise contours are shown in Chapter 4, Table 12.

The locations of noise monitoring sites are discussed in Chapter 4 and are included on the NEM (Figures 13 and 14). Flight tracks for the existing and the five-year forecast Noise Exposure Maps are found in Chapter 3, Figures 5 and 6. The type and frequency of aircraft operations (including nighttime operations) are found in Chapter 3, Table 5 through Table 8. For aircraft types not in the INM standard database, FAA-approved substitutions were used to model an aircraft of a similar type, as detailed in Chapter 3 and Appendix H and I.

As discussed in Chapter 5 of the NEM Report, the Arapahoe County Public Airport Authority provided the general public the opportunity to review and comment on the NEM. The public consultation program for the NEM was open to the general public and included a project Web site, social media posting, newsletters, and public open house/meeting. The public comment period on the draft NEM and narrative report opened November 1, 2016 and closed on November 30, 2016. Public open houses were held on February 3, 2016 and November 2, 2016. All comments received during the public comment period and throughout the development of the NEM, as well as responses to these comments, are contained in Appendix G of the NEM Report.

The FAA has determined that these noise exposure maps and accompanying documentation are in compliance with applicable requirements. This determination is effective on August 1, 2017.

FAA's determination on an airport operator's NEM is limited to a finding that the maps were developed in accordance with the procedures contained in Appendix A of 14 CFR part 150. Such determination does not constitute approval of the applicant's data, information or plans, or a commitment to approve a noise compatibility program or to fund the implementation of that program. If questions arise concerning the precise relationship of specific properties to noise exposure contours depicted on a noise exposure map submitted under Section 47503 of the Act, it should be noted that the FAA is not involved in any way in determining the relative locations of specific properties with regard to the depicted noise contours, or in interpreting the noise exposure maps to resolve questions concerning, for example, which properties should be covered by the provisions of Section 47506 of the Act. These functions are inseparable from the ultimate land use control and planning responsibilities of local government. These local responsibilities are not changed in any way under 14 CFR part 150 or through FAA's review of noise exposure maps. Therefore, the responsibility for the detailed overlaying of noise exposure contours onto the map depicting properties on the surface rests exclusively with the airport operator that submitted those maps, or with those public agencies and planning agencies with which consultation is required under Section 47503 of the Act. The FAA has relied on the certification by the airport operator, under Section 150.21 of 14 CFR part 150, that the statutorily required consultation has been accomplished.

Copies of the full noise exposure maps and associated documentation are available for examination at the following locations:

Federal Aviation Administration, Denver Airports District Office, 26805 E. 68th Ave., Suite 224, Denver, CO 80249.

The Arapahoe County Public Airport Authority, 7800 S. Peoria Street, Unit G1, Englewood, CO 80112.

Issued in Renton, WA, on August 1, 2017.
Randall S. Fiertz,
Director, Airports Division, Northwest Mountain Region.

[FR Doc. 2017-16609 Filed 8-4-17; 8:45 am]

BILLING CODE 4910-13-P